DEPARTMENT OF THE INTERIOR

Bureau of Land Management

[LLORL00000.L10200000.DF0000.LXSS020H0000.15XL0019AF; HAG 15-0101]

Notice of Public Meeting for the Southeast Oregon Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the Southeast Oregon Resource Advisory Council (RAC) will meet as indicated below:

DATES: The Southeast Oregon RAC will hold a public meeting Monday and Tuesday, April 20 starting at 10 a.m. and ending at 4 p.m. and April 21, 2015 starting at 8 a.m. and ending at 12 p.m. A public comment period will be available at 11 a.m. on April 21 during the joint meeting. Unless otherwise approved by the Southeast Oregon RAC Chair, the public comment period will last no longer than 30 minutes, and each speaker may address the Southeast Oregon RAC for a maximum of 5 minutes. Meeting times and the duration scheduled for public comment periods may be extended or altered when the authorized representative considers it necessary to accommodate necessary business and all who seek to be heard regarding matters before the Southeast Oregon RAC.

ADDRESSES: The meeting will be held at the Clarion Inn 1249 Tapadera Ave. Ontario, OR 97914.

FOR FURTHER INFORMATION CONTACT: Scott Stoffel, BLM Lakeview District Office, 1301 S. G Street, Lakeview, Oregon 97630, (541) 947-2177, or email pstoffel@blm.gov. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: The Southeast Oregon RAC consists of 15 members chartered and appointed by the Secretary of the Interior. Their diverse perspectives are represented in commodity, conservation, and general interests. They provide advice to BLM and Forest Service resource managers regarding management plans and proposed resource actions on public land in southeast Oregon. Tentative agenda items for the April 20 and 21, 2015, meeting include: An update from line managers; special sub-group reports; Sage Grouse; Resource Management Plans; herbicide planning efforts; and the Tri-state Fuel project. Any other matters that may reasonably come before the Southeast Oregon RAC may also be addressed. This meeting is open to the public in its entirety. Information to be distributed to the Southeast Oregon RAC is requested prior to the start of each meeting.

Before including your address, phone number, email address, or other personal identifying information in your comments, please be aware that your entire comment—including your personal identifying information—may be made publicly available at any time. While you can ask us in your comment to withhold your personal identifying information from public review, we cannot guarantee that we will be able to do so.

E. Lynn Burkett,
Lakeview District Manager.

[FR Doc. 2015-07095 Filed 3-26-15; 8:45 am]

BILLING CODE 4310-33-P